DEPARTMENT OF COMMERCE

International Trade Administration

[A-475-818, A-489-805]

Certain Pasta From Italy and Turkey: Final Results of Expedited Fourth Sunset Reviews of the Antidumping Duty Orders

AGENCY: Enforcement and Compliance, International Trade Administration, Department of Commerce.

SUMMARY: As a result of these sunset reviews, the Department of Commerce (Commerce) finds that revocation of the antidumping duty orders on certain pasta (pasta) from Italy and Turkey would be likely to lead to the continuation or recurrence of dumping at the levels indicated in the “Final Results of Review” section of this notice.

DATES: Applicable December 5, 2018.

FOR FURTHER INFORMATION CONTACT: Daniel Deku or Scott Hoefke, AD/CVD Operations, Office VI, Enforcement and Compliance, International Trade Administration, U.S. Department of Commerce, 1401 Constitution Avenue NW, Washington, DC 20230; telephone: 202-482-5075 or 202-482-4947, respectively.

SUPPLEMENTARY INFORMATION:

Background

Commerce published antidumping duty orders on pasta from Italy and Turkey on July 24, 1996.¹ On August 1, 2018, Commerce published the notice of initiation of the fourth sunset reviews of the Orders, pursuant to section 751(c) of the Tariff Act of 1930, as amended (the Act).² On August 16, 2018, Commerce received notices of intent to participate from the following domestic interested parties: A. Zerega's Sons, Inc.; Dakota Growers Pasta Company, Inc.; Riviana Foods, Inc. (formerly, New World Pasta Company); and TreeHouse Foods, Inc.³ (collectively, domestic interested parties),⁴ within the deadline specified in 19 CFR 351.218(d)(1)(i). The domestic interested parties claimed interested party status within the meaning of section 771(9)(C) of the Act, as U.S. producers of certain pasta.⁵

¹ See Notice of Antidumping Duty Order and Amended Final Determination of Sales at Less Than Fair Value: Certain Pasta from Italy, 61 FR 38547 (July 24, 1996) (Italy Order), see also Notice of Antidumping Duty Order and Amended Final Determination of Sales at Less Than Fair Value: Certain Pasta from Turkey, 61 FR 38545 (July 24, 1996) (Turkey Order) (collectively, the Orders).

² See Initiation of Five-Year (Sunset) Reviews, 83 FR 37463 (August 1, 2018) (Sunset Initiation).

³ The domestic interested parties stated that TreeHouse Foods, Inc. acquired the American Italian Pasta Company in February 2016, and that the American Italian Pasta Company is now an indirect wholly owned subsidiary of TreeHouse Foods, Inc. See Domestic Interested Parties' August 16, 2018 Intent to Participate for Italy. See Domestic August 16, 2018 Intent to Participate for Turkey.

⁴ Id.

⁵ Id.

On August 22, 2018, we received an extension request from the Government of Italy (GOI) for its response.⁶ On August 31, 2018, we granted an extension to the GOI to submit its substantive response by September 10, 2018.⁷

⁶ See GOI's August 22, 2018 Extension Request.

⁷ See Commerce Letter “Five-Year (Sunset) Review of the Antidumping Duty Order on Certain Pasta from Italy: Request for Extension of Time to File Substantive Responses,” dated August 29, 2018.

On August 31, 2018, Commerce received complete substantive responses from the domestic interested parties within the 30-day deadline specified in 19 CFR 351.218(d)(3)(i).⁸ We received no substantive responses from respondent interested parties with respect to the orders covered by these sunset reviews.

⁸ See Domestic Interested Parties' August 31, 2018 Substantive Response for Italy; see also Domestic Interested Parties' August 31, 2018 Substantive Response for Turkey.

On August 21, 2018, Commerce notified the U.S. International Trade Commission that it received a notice of intent to participate from domestic interested parties as required by 19 CFR 351.218(d).⁹ As a result, pursuant to 751(c)(3)(B) of the Act and 19 CFR 351.218(e)(1)(ii)(C)(2), Commerce conducted an expedited (120-day) sunset reviews of the Orders.

⁹ See Commerce Letter re: “Sunset Reviews Initiated on August 1, 2018,” dated August 21, 2018.

Scope of the Orders

Italy (A-475-818)

The merchandise subject to the order is pasta. The product is currently classified under items 1901.90.90.95 and 1902.19.20 of the Harmonized Tariff Schedule of the United States (HTSUS). Although the HTSUS numbers are provided for conveniences and customs purposes, the written product description available in Italian Order remains dispositive. The full scope language can be found in the accompanying Issues and Decision Memorandum.

Turkey (A-489-805)

The merchandise subject to the order is pasta. The product is currently classified under items 1902.19.20 of the Harmonized Tariff Schedule of the United States (HTSUS). Although the HTSUS numbers are provided for conveniences and custom purposes, the written product description available in Turkish Order remains dispositive. The full scope language can be found in the accompanying Issues and Decision Memorandum.

Analysis of Comments Received

All issues raised in these sunset reviews, including the likelihood of continuation or recurrence of dumping and the magnitude of the margins likely to prevail if the Orders were revoked, are addressed in Issues and Decision Memorandum,¹⁰ which is hereby adopted by this notice. The Issues and Decision Memorandum is a public document and is on file electronically via Enforcement and Compliance's Antidumping and Countervailing Duty Centralized Electronic Service System (ACCESS). ACCESS is available to registered users at http://access.trade.gov, and to all parties in the Central Records Unit, Room B8024 of the main Department of Commerce building. In addition, a complete version of the Issues and Decision Memorandum can be accessed directly on the internet at http://enforcement.trade.gov/frn. The signed Issues and Decision Memorandum and the electronic version of the Issues and Decision Memorandum are identical in content.

¹⁰ See Memorandum, “Issues and Decision Memorandum for the Final Results of the Expedited Fourth Sunset Reviews of the Antidumping Duty Orders on Certain Pasta from Italy and Turkey,” dated concurrently with this notice (Issues and Decision Memorandum).

Final Results of Reviews

Pursuant to sections 751(c)(1) and 752(c)(1) and (3) of the Act, we determine that revocation of the antidumping duty orders on pasta from Italy and Turkey would likely lead to the continuation or recurrence of dumping and that the magnitude of the dumping margins likely to prevail would be weighted-average dumping margins up to 20.84 percent for Italy and up to 63.29 percent for Turkey.

Notification Regarding Administrative Protective Order

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction. We are issuing and publishing these final results and notice in accordance with sections 751(c), 752(c), and 777(i)(1) of the Act and 19 CFR 351.218.

Dated: November 28, 2018.
Gary Taverman,
Deputy Assistant Secretary for Antidumping and Countervailing Duty Operations, performing the non-executive functions and duties of the Assistance Secretary for Enforcement and Compliance.

Appendix

List of Topics Discussed in the Issues and Decision Memorandum

1. Summary

2. Background

3. Scope of the Orders

4. History of the Orders

5. Legal Framework

6. Discussion of the Issues

I. Likelihood of Continuation or Recurrence of Dumping

II. Magnitude of the Margins Likely to Prevail

7. Final Results of Reviews

8. Recommendation

[FR Doc. 2018-26429 Filed 12-4-18; 8:45 am]

BILLING CODE 3510-DS-P